DEPARTMENT OF HEALTH AND HUMAN SERVICES

Office of the Assistant Secretary for Planning and Evaluation; Technical Review Panel on the Medicare Trustees Reports; Notice of September 7-8 and October 11-12 Meetings

AGENCY: Office of the Assistant Secretary for Planning and Evaluation, HHS.

ACTION: Notice of September 7-8 and October 11-12 Meetings.

SUMMARY: In accordance with section 10(a) of the Federal Advisory Committee Act, this notice announces the third and fourth meetings of the Technical Review Panel on the Medicare Trustees Reports (the Panel). These meetings are open to the public.

Pursuant to Public Law 92-463 (the Federal Advisory Committee Act), the Panel was established on August 12, 1999, by the Secretary of HHS to review the methods and assumptions underlying the annual reports of the Board of Trustees of the Hospital Insurance and Supplementary Medical Insurance Trust Funds.

DATES: The third meeting will be held on September 7, 2000 (9 a.m. to 5 p.m.) and September 8, 2000 (9 a.m. to 1 p.m.). The fourth meeting will be held on October 11, 2000 (9 a.m. to 5 p.m.) and October 12, 2000 (9 a.m. to 1 p.m.).

ADDRESSES: The meeting will be held at the Health Care Financing Administration (HCFA) Headquarters, Conference Center, Room C-112, 7500 Security Boulevard, Baltimore, Maryland.

FOR FURTHER INFORMATION CONTACT: Ariel Winter, Executive Director, Technical Review Panel on the Medicare Trustees Reports, Department of Health and Human Services, Room 442E, 200 Independence Avenue, SW, Washington, DC, 20201, (202) 690-6860, medpanel@osaspe.dhhs.gov. Additional information is also available on the Panel's web site: http://aspe.hhs.gov/health/medpanel.htm.

SUPPLEMENTARY INFORMATION: The Board of Trustees of the Medicare Trust Funds (the Hospital Insurance (HI) and Supplementary Medical Insurance (SMI) Trust Funds) report annually on the funds' financial condition. The reports describe the trust funds' current and projected financial condition, within the next 10 years (the short term) and over the subsequent 65 years (the long term). The Medicare Board of Trustees has directed the Secretary of Health and Human Services (who is one of the Trustees) to establish a panel of technical experts to review the assumptions and methods underlying the HI and SMI annual reports.

The panel's review will include the following four topics:

1. Medicare assumptions (e.g., utilization rates, medical price increases)

2. Projection methodology (how assumptions are used to make cost projections)

3. Long-range growth assumptions for HI and SMI

4. Use of stochastic forecasting techniques.

The Panel will issue its findings in reports to the Secretary and the other Trustees.

The Panel consists of six members who are experts in the fields of economics and actuarial science: Dale Yamamoto, F.S.A., M.A.A.A., F.C.C.A., E.A., B.S.—Chair; Len Nichols, Ph.D.; David Cutler, Ph.D.; Michael Chernew, Ph.D.; James Robinson, F.S.A., M.A.A.A., Ph.D.; and Alice Rosenblatt, F.S.A., M.A.A.A., M.A. The members' terms will end August 12, 2001. Sam Gutterman, F.S.A., F.C.A.S., M.A.A.A., M.A., is a consultant to the Panel.

The Panel's third meeting will be held on September 7, 2000 (9 a.m. to 5 p.m.) and September 8, 2000 (9 a.m. to 1 p.m.). The fourth meeting will be held on October 11, 2000 (9 a.m. to 5 p.m.) and October 12, 2000 (9 a.m. to 1 p.m.). The meetings will be held at the Health Care Financing Administration (HCFA) Headquarters, Conference Center, Room C-112, 7500 Security Boulevard, Baltimore, Maryland. The meetings are open to the public, but attendance is limited to the space available. The Panel's first meeting was held June 28-29, 2000, and the second meeting was held July 26-27, 2000.

At its third and fourth meetings, the Panel will discuss findings from its subgroups on the following five topics:

1. Medicare Assumptions

2. Projection Methodology

3. Long-Range Growth Assumptions

4. Uncertainty (stochastic forecasting, alternative assumptions, sensitivity)

5. Report Presentation Issues/Research and Data.

The Panel will also consider recommendations to the Board of Trustees in each of these areas. At the third meeting, the Panel will also hear presentations from organizations that develop models similar to the Medicare Trust Funds models.

Individuals or organizations that wish to make 5-minute oral presentations on the agenda issues mentioned in this notice should contact the Executive Director by 5 p.m. on August 25, 2000. The number of oral presentations may be limited to the time available. A written copy of the presenters' oral remarks should be submitted to the Executive Director no later than 5 p.m. on August 31, 2000, for distribution to the Panel members.

Any interested member of the public may submit written comments to the Executive Director and Panel members for review. Comments should be received by the Executive Director by 5 p.m. on August 31, 2000, for distribution to the Panel members.

Individuals requiring sign language interpretation for the hearing impaired and/or other special accommodation, should contact Ariel Winter at (202) 690-6860 by August 25, 2000.

Dated: August 2, 2000.
Margaret A. Hamburg,
Assistant Secretary for Planning and Evaluation.

[FR Doc. 00-20349 Filed 8-10-00; 8:45 am]

BILLING CODE 4154-05-P